DEPARTMENT OF HOMELAND SECURITY

Science and Technology Directorate

Notice of Video Quality in Public Safety Conference

AGENCY: Science and Technology Directorate, DHS.

ACTION: Notice of open conference.

SUMMARY: The U.S. Department of Homeland Security's (DHS) Office for Interoperability and Compatibility (OIC), in partnership with the Public Safety Communications Research (PSCR) program within the U.S Department of Commerce, will host the second Video Quality in Public Safety (VQiPS) conference in September 2009. The conference will provide stakeholders with the opportunity to discuss their successes and the challenges related to video quality and interoperability. Information will be presented by field experts regarding video technology, standards development, and video system integration. The conference will also review the work of the VQiPS Working Group, which is comprised of volunteers from each public safety discipline—local, state, and Federal law, fire, and emergency medical services practitioners; Federal partners; representatives from academia and non-profit entities; and manufacturers. The Working Group coordinates efforts among organizations and agencies that are developing video standards for their own use.

DATES: The conference will take place Tuesday, September 1, 2009, through Thursday, September 3, 2009.

ADDRESSES: The conference will be held at the Institute for Telecommunication Sciences laboratories at 325 Broadway, Boulder, Colorado. Additional conference details can be found at http://www.its.bldrdoc.gov/psvq/vqips/.

FOR FURTHER INFORMATION CONTACT: Cuong Luu, U.S. Department of Homeland Security, Science and Technology Directorate, Office for Interoperability and Compatibility. E-mail: VOIP_Working_Group@sra.com.

SUPPLEMENTARY INFORMATION: For emergency responders using incident video services, a clear picture can mean the difference between life and death. Video applications are quickly emerging as an essential component in seamless communications among emergency responders. In the past, public safety has looked to manufacturers to inform them of their video equipment needs, but as video technology has evolved, the array of options for public safety practitioners has grown and the interoperability challenges have become increasingly complex. Thus, the need has emerged for public safety to collectively articulate their video quality needs to the manufacturing community.

In 2008, OIC within DHS and the U.S. Department of Commerce's PSCR program formed the VQiPS Working Group, which is composed of volunteers from each public safety discipline. Participants include local, state, and Federal law, fire, and emergency medical services practitioners; Federal partners; representatives from academia and non-profit entities; and manufacturers. Together, Working Group members coordinate efforts among organizations and agencies that are developing video standards for their own use.

Although each public safety discipline's video content may seem very different on the surface, many common elements exist that imply similar video quality specifications. The Working Group is therefore developing a set of application-independent use cases and a user guide to help public safety agencies determine their particular use cases. The Working Group effort will help practitioners implement effective video systems for their specific needs. Future outputs of the Working Group will include a glossary of shared terminology related to video quality, video equipment, and specifications to aid public safety agencies in becoming more effective.

As public safety agencies migrate to more powerful broadband systems, the use of video will undoubtedly increase. In preparation, OIC is bridging the gap between diverse agencies and preventing duplicative or competing efforts to define and deploy video systems. OIC is also acting as an objective technical resource to ensure future video technologies reflect the needs of the entire public safety community.

More information about VQiPS is available at http://www.safecomprogram.gov/SAFECOM/currentprojects/videoquality/videoquality.htm.

Dated: July 29, 2009.
Cuong Luu,
VQiPS Program Manager.

[FR Doc. E9-19649 Filed 8-14-09; 8:45 am]

BILLING CODE 9110-9F-P